FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 28, 2022.

A. Federal Reserve Bank of Richmond (Brent B. Hassell, Assistant Vice President) P.O. Box 27622, Richmond, Virginia 23261; or by email at Comments.applications@rich.frb.org.

1. Richard T. Spurzem, Charlottesville, Virginia; to acquire additional voting shares of Blue Ridge Bankshares, Inc., Charlottesville, Virginia, and thereby indirectly acquire Blue Ridge Bank, National Association, Martinsville, Virginia.

B. Federal Reserve Bank of St. Louis (Holly A. Rieser, Senior Manager) P.O. Box 442, St. Louis, Missouri 63166-2034; or by email at Comments.applications@stls.frb.org.

1. The James K. Maddox Irrevocable Trust, James K. Maddox, as trustee, and the Daniel R. Coffman Trust, Daniel R. Coffman, as trustee, all of Poplar Bluff, Missouri; to acquire voting shares of Sterling Bancshares, Inc., and thereby indirectly acquire voting shares of Sterling Bank, both of Poplar Bluff, Missouri.

Board of Governors of the Federal Reserve System.
Margaret McCloskey Shanks,
Deputy Secretary of the Board.

[FR Doc. 2022-12692 Filed 6-10-22; 8:45 am]

BILLING CODE P